DEPARTMENT OF THE INTERIOR

National Park Service

Submission of Establishment of a New Parking Fee Area at Pearl Harbor National Memorial; Correction

AGENCY: National Park Service, Interior.

ACTION: Notice; correction.

SUMMARY: The National Park Service published a document in the Federal Register on June 1, 2022, announcing the Establishment of a New Parking Fee Area at Pearl Harbor National Memorial. The document contained an incorrect date.

FOR FURTHER INFORMATION CONTACT: Tom Leatherman, (808) 490-8078.

Correction: In the Federal Register of June 1, 2022, in FR Volume 87, Number 105, Pages 33203-33206, Document Number 2022-11393, on page 1. In the DATES section, correct the date to read: January 15, 2023.

Dated: June 1, 2022.
Justin Unger,
Associate Director, Business Services.

[FR Doc. 2022-12269 Filed 6-7-22; 8:45 am]

BILLING CODE 4312-52-P